DEPARTMENT OF LABOR

Employment and Training Administration

[TA-W-37,409 and NAFTA -3738]

Quaker Oats Company, St. Joseph, Missouri; Dismissal of Application for Reconsideration

Pursuant to 29 CFR 90.18(C) an application for administrative reconsideration was filed with the Director of the Division of Trade Adjustment Assistance for workers at Quaker Oats Company, St. Joseph, Missouri. The application contained no new substantial information which would bear importantly on the Department's determination. Therefore, dismissal of the application was issued.

TA-W-37,409 and NAFTA-3738; Quaker Oats Company, St. Joseph, Missouri (July 10, 2000)

Signed at Washington, D.C. this 12th day of July, 2000.
Grant D. Beale,
Program Manager, Division of Trade Adjustment Assistance.

[FR Doc. 00-18358 Filed 7-19-00; 8:45 am]

BILLING CODE 4510-30-M